Title 3—

The President

Executive Order 13445 of September 27, 2007

Strengthening Adult Education

By the authority vested in me as President by the Constitution and the laws of the United States of America, it is hereby ordered as follows:

Section 1. Policy. It is the policy of the United States to use existing Federal programs that serve adults, including new Americans, to strengthen literacy skills, improve opportunities for postsecondary education and employment, and facilitate participation in American life.

Sec. 2. Definitions. As used in this order:

(a) “agency” means an executive agency as defined in section 105 of title 5, United States Code, other than the Government Accountability Office; and

(b) “adult education” means teaching or instruction below the postsecondary level, for individuals who are 16 years of age or older, designed to provide:

(i) mastery of basic education skills needed to function effectively in society;

(ii) a secondary school diploma or its equivalent; or

(iii) the ability to speak, read, or write the English language.

Sec. 3. Establishment of Interagency Adult Education Working Group. The Secretary of Education shall establish within the Department of Education for administrative purposes only, an Interagency Adult Education Working Group (Working Group), consistent with this order.

Sec. 4. Membership and Operation of the Working Group.

(a) The Working Group shall consist exclusively of:

(i) the Secretary of Education, who shall serve as Chair;

(ii) the Secretary of the Treasury, the Attorney General, and the Secretaries of the Interior, Labor, Health and Human Services, Housing and Urban Development, and Veterans Affairs; and

(iii) other officers or full-time or permanent part-time employees of the United States, as determined by the Chair, with the concurrence of the head of the agency concerned.

(b) The Chair, or the Chair's designee under subsection (c) of this section, in implementing section 5 of this order, shall convene and preside at the meetings of the Working Group, determine its agenda, direct its work, and establish and direct subgroups of the Working Group, as appropriate to deal with particular subject matters, that shall consist exclusively of members of the Working Group or their designees under subsection (c) of this section.

(c) A member of the Working Group may designate, to perform the Working Group or Working Group subgroup functions of the member, any person who is a part of the member's agency and who is either an officer of the United States appointed by the President or a member of the Senior Executive Service.

Sec. 5. Functions of the Working Group. Consistent with the policy set forth in section 1 of this order, the Working Group shall:

(a) identify Federal programs that:

(i) focus primarily on improving the basic education skills of adults;

(ii) have the goal of transitioning adults from basic literacy to postsecondary education, training, or employment; or

(iii) constitute programs of adult education;

(b) as appropriate, review the programs identified under subsection (a) of this section and submit to the heads of the agencies administering those programs recommendations to:

(i) promote the transition of adults from such programs to postsecondary education, training, or employment;

(ii) increase the effectiveness, efficiency, and availability of such programs;

(iii) minimize unnecessary duplication among such programs;

(iv) measure and evaluate the performance of such programs; and

(v) undertake and disseminate the results of research related to such programs;

(c) identify gaps in the research about effective ways to teach adult education for postsecondary readiness, recommend areas for further research to improve adult education programs and services, and identify promising practices in disseminating valid existing and future research findings; and

(d) obtain information and advice as appropriate, in a manner that seeks individual advice and does not involve collective judgment or consensus advice or deliberation, concerning adult education from:

(i) State, local, territorial, and tribal officials; and

(ii) representatives of entities or other individuals;

(e) at the request of the head of an agency, unless the Chair declines the request, promptly review and provide advice on a proposed action by that agency relating to adult education; and

(f) report to the President, through the Assistant to the President for Domestic Policy, on its work, and on the implementation of any recommendations arising from its work, at such times and in such formats as the Chair may specify, with the first such report to be submitted no later than 9 months after the date of this order.

Sec. 6. Administration of the Working Group. (a) To the extent permitted by law, the Department of Education shall provide the funding and administrative support the Working Group needs, as determined by the Chair, to implement this order.

(b) The heads of agencies shall provide, as appropriate, such assistance and information as the Chair may request to implement this order.

Sec. 7. General Provisions. (a) Nothing in this order shall be construed to impair or otherwise affect:

(i) authority granted by law to an agency or the head thereof; or

(ii) functions of the Director of the Office of Management and Budget relating to budget, administrative, or legislative proposals.

(b) This order shall be implemented consistent with applicable law and subject to the availability of appropriations.

(c) This order is not intended to, and does not, create any right or benefit, substantive or procedural, enforceable at law or in equity, by any party against the United States, its agencies or entities, its officers, employees, or agents, or any other person.

THE WHITE HOUSE,

September 27, 2007.

[FR Doc. 07-4890

Filed 10-1-07; 8:45 am]

Billing code 3195-01-P